ENVIRONMENTAL PROTECTION AGENCY

[EPA-HQ-OECA-2014-0067; FRL-9921-67-OEI]

Information Collection Request Submitted to OMB for Review and Approval; Comment Request; NESHAP for Primary Copper Smelters (Renewal)

AGENCY: Environmental Protection Agency (EPA).

ACTION: Notice.

SUMMARY: The Environmental Protection Agency has submitted an information collection request (ICR), “NESHAP for Primary Copper Smelters (40 CFR part 63, subpart QQQ) (Renewal)” (EPA ICR No. 1850.07, OMB Control No. 2060-0476) to the Office of Management and Budget (OMB) for review and approval in accordance with the Paperwork Reduction Act (44 U.S.C. 3501 et seq.). This is a proposed extension of the ICR, which is currently approved through February 28, 2015. Public comments were previously requested via the Federal Register (79 FR 30117) on May 27, 2014, during a 60-day comment period. This notice allows for an additional 30 days for public comments. A fuller description of the ICR is given below, including its estimated burden and cost to the public. An Agency may not conduct or sponsor and a person is not required to respond to a collection of information unless it displays a currently valid OMB control number.

DATES: Additional comments may be submitted on or before March 20, 2015.

ADDRESSES: Submit your comments, referencing Docket ID Number EPA-HQ-OECA-2014-0067, to (1) EPA online using www.regulations.gov (our preferred method), by email to docket.oeca@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Patrick Yellin, Monitoring, Assistance, and Media Programs Division, Office of Compliance, Mail Code 2227A, Environmental Protection Agency, 1200 Pennsylvania Ave. NW., Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov or in person at the EPA Docket Center, EPA William Jefferson Clinton West, Room 3334, 1301 Constitution Ave. NW., Washington, DC. The telephone number for the Docket Center is 202-566-1744. For additional information about EPA's public docket, visit http://www.epa.gov/dockets.

Abstract: Owners and operators of a primary copper smelter are subject to the regulation only if it is a major source of hazardous air pollutant (HAP) emitting or has the potential to emit any single HAP at the rate of 10 tons or more per year or any combination of HAP at a rate of 25 tons or more per year. New facilities include those that commenced construction or reconstruction after the date of proposal. This information is being collected to assure compliance with 40 CFR part 63, subpart QQQ. These notifications, reports, and records are essential in determining compliance, and are required of all affected facilities subject to NESHAP.

Form Numbers: None.

Respondents/affected entities: Owners and operators of primary copper smelter.

Respondent's obligation to respond: Mandatory (40 CFR part 63, Subpart QQQ).

Estimated number of respondents: 3 (total).

Frequency of response: Initially, occasionally, quarterly, and semiannually.

Total estimated burden: 9,380 hours (per year). Burden is defined at 5 CFR 1320.3(b).

Total estimated cost: $926,544 (per year), includes $8,220 annualized capital or operation & maintenance costs.

Changes in the Estimates: There is an increase of 543 hours in the total estimated respondent burden compared with the ICR currently approved by OMB. This change in hours is due to the removal of burden for submitting initial notifications, which is not required for existing sources and the addition of managerial and clerical staff that are now involved in recordkeeping activities.

Courtney Kerwin,
Acting Director, Collection Strategies Division.

[FR Doc. 2015-03297 Filed 2-17-15; 8:45 am]

BILLING CODE 6560-50-P